DEPARTMENT OF DEFENSE

Office of the Secretary

Proposed Collection; Comment Request

AGENCY: Office of the Under Secretary of Defense (Personnel and Readiness), DoD.

ACTION: Notice.

In compliance with section 3506(c)(2)(A) of the Paperwork Reduction Act of 1995, the Office of the Under Secretary of Defense (Personnel and Readiness) announces the following purposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by December 5, 2005.

ADDRESSES: Written comments and recommendations on the proposed information collection should be sent to the Office of the Under Secretary of Defense (Personnel and Readiness) (Military Personnel Policy/Armed Forces Chaplains Board), Attn: Ch, Col. Richard K. Hum, 4000 Defense Pentagon, Washington, DC 20301-4000.

FOR FURTHER INFORMATION CONTACT: To request more information on this proposed information collection or to obtain a copy of the proposal and associated collection instruments, please write to the above address or call at (703) 697-9015.

Title and OMB Control Number: Appointment of Chaplains for the Military Services; DD Form 2088; OMB Number 0704-0190.

Needs and Uses: This information collection requirement is necessary to determine proper qualification and endorsement of Religious Organizations' candidates as chaplains in respective Military Departments.

Affected Public: Not-for-profit institutions.

Annual Burden Hours: 692 hours.

Number of Respondents: 200.

Responses per Respondent: 4.6.

Average Burden per Response: 45 minutes.

Frequency: On occasion/annually.

SUPPLEMENTARY INFORMATION:

Summary of Information Collection

The DD Form 2088, “Statement of Ecclesiastical Endorsement,” is used whenever an ecclesiastical endorsing agency submits a Religious Ministry Professional as a candidate to become a chaplain. The ecclesiastical endorsing agency sends it to the Military Service which the Religious Ministry Professional wishes to join.

The three Military Services are required by DoD Directive 1304.19, “Appointment of Chaplains for the Military Departments,” and DoD Instruction 1304.28, “Guidance for the Appointment of Chaplains for the Military Departments,” to obtain a certification of the professional qualifications of clergy applying for the chaplaincy. DD Form 2088, “Statement of Ecclesiastical Endorsement,” also requests the name, address, number of years of professional experience accrued by the Religious Ministry Professional, and number of years of previous military experience. This information is used in computing constructive credit for determining grade, date of rank, and eligibility of promotion of appointees in the chaplaincies.

Dated: September 8, 2005.
Patricia L. Toppings,
Alternate OSD Federal Register Liaison Officer, Department of Defense.

[FR Doc. 05-20029 Filed 10-5-05; 8:45 am]

BILLING CODE 5001-06-M